DEPARTMENT OF AGRICULTURE

Forest Service

McKean County, PA; Intent To Prepare Environmental Impact Statement

AGENCY: Forest Service, USDA.

ACTION: Notice of intent.

SUMMARY: The Forest Service, Allegheny National Forest, Bradford Ranger District will prepare a Draft Environmental Impact Statement to disclose the environmental consequences of the proposed Lewis Run Project. The Forest Service is proposing to move from the existing condition towards the Desired Future Condition, as detailed in the Allegheny National Forest Land and Resource Management Plan.

Proposed activities to meet the Desired Future Condition are: (1) Regeneration harvest consisting of shelterwood/removal cuts, removal cuts, 2-age harvest, and salvage shelterwood/removal cut; (2) Intermediate harvest consisting of thinning and salvage; (3) Reforestation treatment consisting of herbicide application, site preparation, fertilization, and cleaning and weeding (non-commercial timber stand improvement); (4) Wildlife habitat improvement consisting of conifer/mast underplanting, commercial release, opening construction/seeding, apple trees pruning, planting in openings, non-commercial release, and enhancing vernal pond; (5) Transportation activities consisting of road reconstruction, closing roads and seeding, limestone surfacing, installing gates, and pit expansion.

DATES: Comments and suggestions concerning the scope of the analysis should be submitted (postmarked) by August 28, 2000 to ensure timely consideration.

ADDRESSES: Submit written, oral, or e-mail comments by: (1) mail—Lewis Run Project, ID Team Leader, Star Route 1 Box 88, Bradford, PA 16701; (2) phone—814-362-4613; (3) e-mail—anf/r9_allegheny@fs.fed.us (Please note: when commenting by e-mail be sure to list Lewis Run EIS in the subject line and include a US Postal Service address so we may add you to our mailing list).

FOR FURTHER INFORMATION CONTACT: Andrea Hille or Ruth Miller, Bradford Ranger District, at 814-362-4613.

SUPPLEMENTARY INFORMATION: The Allegheny Forest Plan provides for management of forest resources. Management objectives include producing a sustainable supply of high-quality sawtimber and wood products, developing and maintaining a wide array of wildlife habitats, and providing a range of recreation settings and experiences. Specific objectives are defined for each Management Area, and the Lewis Run Project is located entirely within Management Area 3.0, which emphasizes timber harvest as a means for making desired changes to forest vegetation and satisfying the public demand for wood products.

Preliminary Issues were developed based on past projects in the area (environmental assessments), issues developed for similar projects, and Forest Service concerns and opportunities identified in the Project Area. These issues are listed below:

1. Road Management—The Forest Service will complete a Roads Analysis, which includes evaluating all roads in the Project Area for effects to the ecosystem. The proposed action requires examining the road system to determine if the existing road system is adequate (or if improvements are needed), and if any roads need to be closed for resource protection or other reasons (e.g., water quality, wildlife, or recreation opportunities).

2. Even-Aged/Uneven-Aged Management—The Forest Plan provides direction regarding the primary silvicultural system to be used in each management area; for Management Area 3.0 it is even-aged management. Uneven-aged management is an option considered for inclusions such as riparian areas, wet soils, or visually sensitive areas. A court decision (10/15/97) determined that the Forest should more fully explore the use of uneven-aged management techniques.

3. Threatened and Endangered Species—The Forest Service is mandated to protect all proposed, threatened, endangered and sensitive (PETS) species. Suitable Indiana and Northern long-eared bat habitat was sampled within the project area in 1999; although no bats were detected or captured, the project area is assumed to provide occupied habitat for both species. All treatments in the proposed action would adhere to terms and conditions set forth in the 6/1/99 Biological Opinion issued by the US Fish and Wildlife Service.

Commenting: A range of alternatives will be considered after public comments are received and analyzed. One of these will consider No Action for the Project Area. The Draft EIS is expected to be filed with the Environmental Protection Agency and available for public review by January 2001. At that time the Environmental Protection Agency will publish a Notice of Availability of the document in the Federal Register (this will begin the 45-day comment period on the Draft EIS). After the comment period ends on the Draft EIS, the comments will be analyzed and considered by the Forest Service in preparing the final environmental impact statement. The Final EIS is scheduled for release in June 2001.

Comments received, including names and addresses of those who comment, will be considered part of the public record and may be subject to public disclosure. Any person may request the Agency to withhold a submission from the public record by showing how the Freedom of Information Act (FOIA) permits such confidentiality.

The Forest Service believes it is important to give reviewers notice at this early stage of several court ruling related to public participation in the environmental review process. First, reviewers of draft environmental impact statements must structure their participation in the environmental review of the proposal so that it is meaningful and alerts an agency to the reviewer's position and contentions (Vermont Yankee Nuclear Power Corp. v. NRDC, 435 U.S. 519 553 [1978]). Also, environmental objection that could be raised at the draft environmental impact statement state but that are not raised until after completion of the final environmental impact statement stage may be waived or dismissed by the courts (City of Angoon v. Hodel, 803 f.2nd 1016, 1022 [9th Cir. 1986] and Wisconsin Heritages, Inc. v. Harris, 490 F. Supp. 1334, 1338 [E.D. Wis. 1980]).

Because of the above rulings, it is very important that those interested in this proposed action participate by the close of the 45-day comment period so that substantive comments are made available to the Forest Service at a time when they can be meaningfully considered and responded to in the final environmental impact statement. Comments on the draft environmental impact statement should be as specific as possible. It is also helpful if comments refer to specific pages, sections, or chapters of the draft statement. Comments may also address the adequacy of the draft environmental impact statement or the merits of the alternatives formulated and discussed in the statement. Reviewers may wish to refer to Council on Environmental Quality Regulations for implementing the procedural provisions of the National Environmental Policy Act at CFR 1503.3 in addressing these points.

This decision will be subject to appeal under 36 CFR 215. The responsible official is John R. Schultz, Bradford Ranger District, Star Route 1 Box 88, Bradford, PA 16701.

Dated: July 17, 2000.
John R. Schultz,
District Ranger.

[FR Doc. 00-18520 Filed 7-27-00; 8:45 am]

BILLING CODE 3410-11-P